NATIONAL FOUNDATION ON THE ARTS AND THE HUMANITIES

45 CFR Part 1185

Institute of Museum and Library Services; Governmentwide Debarment and Suspension (Nonprocurement), and Requirements for Drug-Free Workplace (Grants); Correction

AGENCY: Institute of Museum and Library Services, National Foundation on the Arts and Humanities.

ACTION: Final rule; correction.

SUMMARY: The Institute of Museum and Library Services (IMLS) joined several agencies in publishing Governmentwide Debarment and Suspension (Nonprocurement), and Requirements for a Drug-Free Workplace (Grants) in the Federal Register of November 26, 2003. Inadvertently, amendatory instructions were deleted from part 1185. This document corrects the amendatory language revising part 1185.

DATES: Effective on November 26, 2003.

FOR FURTHER INFORMATION CONTACT: Nancy Weiss, General Counsel, Institute of Museum and Library Services, 1100 Pennsylvania Avenue, Washington, DC 20506; telephone 202-606-5414; TDD: 202-606-8636.

SUPPLEMENTARY INFORMATION: The IMLS published a document in the Federal Register on November 26, 2003, in which the amendatory instructions were inadvertently deleted from part 1185. In FR Doc. 03-28454 published on November 26, 2003, make the following correction to page 66639.

PART 1185—[CORRECTED]

In rule FR Doc. 03-28454 published on November 26, 2003 (68 FR 66534) make the following correction. On page 66639, in the third column, correct amendatory instruction 1 to read as follows:

“1. Part 1185 is revised to read as set forth in instruction 1 at the end of the common preamble.”

Dated: December 2, 2003.
Nancy E. Weiss,
General Counsel.

[FR Doc. 03-30994 Filed 12-16-03; 8:45 am]

BILLING CODE 7036-01-M